DEPARTMENT OF COMMERCE

International Trade Administration

[C-570-127]

Certain Non-Refillable Steel Cylinders From the People's Republic of China: Rescission of Countervailing Duty Administrative Review; 2023

AGENCY: Enforcement and Compliance, International Trade Administration, Department of Commerce.

SUMMARY: The U.S. Department of Commerce (Commerce) is rescinding the administrative review of the countervailing duty order on certain non-refillable steel cylinders (non-refillable cylinders) from the People's Republic China (China), covering the period of review (POR) January 1, 2023, though December 31, 2023, because, as explained below, there are no reviewable suspended entries for the company subject to this review.

DATES: Applicable September 9, 2024.

FOR FURTHER INFORMATION CONTACT: Peter Zukowski, AD/CVD Operations, Office III, Enforcement and Compliance, International Trade Administration, U.S. Department of Commerce, 1401 Constitution Avenue NW, Washington, DC 20230; telephone: (202) 482-0189.

SUPPLEMENTARY INFORMATION:

Background

On May 2, 2024, Commerce published in the Federal Register a notice of opportunity to request an administrative review of the countervailing duty order on non-refillable cylinders from China, covering the period January 1, 2023, though December 31, 2023.¹ On May 28, 2024, Sanjian Kai Yuan Co., Ltd. (SKY) timely requested that Commerce conduct an administrative review.² We received no other requests for review.

¹ See Antidumping or Countervailing Duty Order, Finding, or Suspended Investigation; Opportunity To Request Administrative Review and Join Annual Inquiry Service List, 89 FR 35778, 35780 (May 2, 2024).

² See SKY's Letter, “Request for Administrative Review,” dated May 28, 2024.

On July 5, 2024, Commerce published in the Federal Register a notice of initiation of an administrative review with respect to SKY, in accordance with section 751(a) of the Tariff Act of 1930, as amended (the Act).³ On July 10, 2024, Commerce released a memorandum indicating that there were no entries of subject merchandise during the POR based on a U.S. Customs and Border Protection (CBP) entry data query.⁴ Commerce provided parties an opportunity to submit comments on the data query results.⁵ No party submitted comments to Commerce.

³ See Initiation of Antidumping and Countervailing Duty Administrative Reviews, 89 FR 55567, 55578 (July 5, 2024).

⁴ See Memorandum, “Release of U.S. Customs and Border Protection Query,” dated July 10, 2024.

⁵ Id.

On August 8, 2024, Commerce issued a notice of intent to rescind the 2023 administrative review and provided parties with an opportunity to comment.⁶ No party submitted comments to Commerce.

⁶ See Memorandum, “Notice of Intent to Rescind the 2023 Administrative Review,” dated August 8, 2024.

Rescission of Review

Pursuant to 19 CFR 351.213(d)(3), it is Commerce's practice to rescind an administrative review of a countervailing duty order where it concludes that there were no reviewable entries of subject merchandise during the POR for an exporter or producer.⁷ Normally, upon completion of an administrative review, the suspended entries are liquidated at the countervailing duty assessment rate for the review period.⁸ Therefore, for an administrative review to be conducted, there must be a reviewable, suspended entry that Commerce can instruct CBP to liquidate at the calculated countervailing duty assessment rate for the review period.⁹ As noted above, there were no entries of subject merchandise from SKY during the POR. Accordingly, in the absence of reviewable, suspended entries of subject merchandise during the POR, we are rescinding this administrative review, in its entirety, in accordance with 19 CFR 351.213(d)(3).

⁷ See, e.g., Certain Softwood Lumber Products from Canada: Final Results and Final Rescission, in Part, of the Countervailing Duty Administrative Review, 2020, 87 FR 48455 (August 9, 2022); see also Certain Non-Refillable Steel Cylinders from the People's Republic of China: Rescission of Countervailing Duty Administrative Review; 2020-2021, 87 FR 64008 (October 21, 2022).

⁸ See 19 CFR 351.212(b)(2).

⁹ See 19 CFR 351.213(d)(3).

Cash Deposit Requirements

As Commerce has proceeded to a final rescission of this administrative review, no cash deposit rates will change. Accordingly, the current cash deposit requirements shall remain in effect until further notice.

Assessment Rates

Commerce will instruct CBP to assess countervailing duties on all appropriate entries. Countervailing duties shall be assessed at rates equal to the cash deposit of estimated countervailing duties required at the time of entry, or withdrawal from warehouse, for consumption, in accordance with 19 CFR 351.212(c)(1)(i). Commerce intends to issue assessment instructions to CBP no earlier than 35 days after the date of publication of this rescission notice in the Federal Register.

Administrative Protective Order

This notice serves as a final reminder to parties subject to an administrative protective order (APO) of their responsibility concerning the return or destruction of proprietary information disclosed under APO in accordance with 19 CFR 351.305(a)(3), which continues to govern business proprietary information in this segment of the proceeding. Timely written notification of the return or destruction of the APO materials, or conversion to judicial protective order is hereby requested. Failure to comply with regulations and terms of an APO is a violation, which is subject to sanction.

Notification to Interested Parties

This notice is issued and published in accordance with sections 751(a)(1) and 777(i)(l) of the Act, and 19 CFR 351.213(d)(4).

Dated: September 3, 2024.
Scot Fullerton,
Acting Deputy Assistant Secretary for Antidumping and Countervailing Duty Operations.

[FR Doc. 2024-20204 Filed 9-6-24; 8:45 am]

BILLING CODE 3510-DS-P